NATIONAL AERONAUTICS AND SPACE ADMINISTRATION

[Notice 07-040]

Government-Owned Inventions, Available for Licensing

AGENCY: National Aeronautics and Space Administration.

ACTION: Notice of availability of inventions for licensing.

SUMMARY: The inventions listed below assigned to the National Aeronautics and Space Administration, have been filed in the United States Patent and Trademark Office, and are available for licensing.

DATES: May 29, 2007.

FOR FURTHER INFORMATION CONTACT: James J. McGroary, Patent Counsel, Marshall Space Flight Center, Mail Code LS01, Huntsville, AL 35812; telephone (256) 544-0013; fax (256) 544-0258.

NASA Case No. MFS-32407-1: Oxidizer Compound For Rocket Propulsion;

NASA Case No. MFS-31968-1: Star Identification And Alignment System;

NASA Case No. MFS-32105-1-DIV: Ultrasonic Stir Welding Process And Apparatus.

Dated: May 21, 2007.
Keith T. Sefton,
Deputy General Counsel, Administration and Management.

[FR Doc. E7-10157 Filed 5-25-07; 8:45 am]

BILLING CODE 7510-13-P